DEPARTMENT OF TRANSPORTATION

Federal Transit Administration

Supplemental Draft Environmental Impact Statement for the Central Corridor Light Rail Transit Project, Located in Minneapolis and Saint Paul, MN

AGENCY: Federal Transit Administration (FTA), Department of Transportation (DOT).

ACTION: Notice of Intent to prepare a Supplemental Draft Environmental Impact Statement (SDEIS).

SUMMARY: The Federal Transit Administration (FTA) in cooperation with the Metropolitan Council is issuing this notice to advise interested agencies and the public of its intent to prepare a Supplemental Draft Environmental Impact Statement (SDEIS) for the proposed Central Corridor Light Rail Transit (LRT) Project, located in Minneapolis and Saint Paul, Minnesota (the “Project”). The SDEIS will be prepared in accordance with the National Environmental Policy Act (NEPA) as well as provisions of the Safe, Accountable, Flexible, Efficient Transportation Equity Act: A Legacy for Users (SAFETEA-LU). The SDEIS will evaluate potential changes to the Central Corridor LRT Project since the publication of the April 21, 2006 Alternatives Analysis/Draft Environmental Impact Statement (AA/DEIS) and disclose new information that is being developed during the preliminary engineering process.

FOR FURTHER INFORMATION CONTACT: Ms. Marisol Simon, Regional Administrator, Federal Transit Administration (FTA), Region V, 200 West Adams Street, Suite 320, Chicago, Illinois 60606, Telephone: (312) 353-2789.

DATES: Written comments on the proposed action should be sent to Ms. Kathryn L. O'Brien, AICP, Project Manager, Central Corridor Project Office, 540 Fairview Ave. North, Suite 200S, Saint Paul, MN 55104, Telephone: 651-602-1927; E-mail: kathryn.obrien@metc.state.mn.us and Mr. David Werner at FTA, Region V, 200 West Adams Street, Suite 320, Chicago, Illinois 60606, Telephone: (312) 353-2789; E-mail: David.Werner@dot.gov by March 26, 2008.

SUPPLEMENTARY INFORMATION: Background: The Metropolitan Council is proposing transportation improvements in the Central Corridor linking Minneapolis and Saint Paul. The Central Corridor is 11-miles in length of which 9.8 miles consists of new alignment and 1.2 miles uses the existing Hiawatha LRT alignment in downtown Minneapolis. It will connect the Minneapolis and Saint Paul downtown areas as well as the University of Minnesota and the State Capitol complex. The purpose of the Project is to meet the future transit needs of the Central Corridor and the Region and to support the economic development goals for the Corridor. It allows the opportunity to provide a direct connection to the existing 11.6-mile Hiawatha LRT line in Minneapolis, thereby increasing mobility options within the Region.

The AA/DEIS Notice of Intent was published in the Federal Register on June 5, 2001 and the notice of the availability of the AA/DEIS for review and comment was published in the Federal Register on April 21, 2006. In April 2006, the Central Corridor AA/DEIS was distributed for public review and comment (No. 20060147, ERP No. D-FTA-F40434-MN). The AA/DEIS provided a comprehensive examination of alignments, LRT and Busway/Bus Rapid Transit (BRT) technologies, and a Baseline Alternative for the Central Corridor. Based on findings from the AA/DEIS and on public and agency input received during the process, the Metropolitan Council adopted a Locally Preferred Alternative (LPA) for the Central Corridor, namely Light Rail Transit, operating on Washington and University Avenues, on June 28, 2006 (Metropolitan Council Resolution No. 2006-15).

Proposed Changes to the LPA: A supplemental DEIS is being prepared because key changes to the LPA as previously defined are being considered. In response to comments received on the AA/DEIS and the Project subsequent to the selection of the LPA, several design options for key project elements are being considered. These options reflect conditions that exist within the Corridor, technical and operational constraints, major infrastructure requirements that were not fully documented in the AA/DEIS, physical conditions that have changed within the corridor since the AA/DEIS, and substantive comments received during the AA/DEIS public comment period. The SDEIS will document and disclose potential impacts relating to key project elements that have changed and/or remain uncertain since issuance of the AA/DEIS, including but not limited to:

1. Hiawatha/Central Connection: Alternative alignments connecting to the existing Hiawatha LRT tracks will be evaluated.

2. University of Minnesota Alignment (tunnel vs. at-grade and stations): The LPA included a tunnel, primarily under Washington Avenue, as the preferred alignment alternative through the University of Minnesota campus. The SDEIS will examine the impacts of an at-grade alignment alternative through the East Bank of the University of Minnesota campus and modifications to the tunnel alignment, as well as an alignment change through this segment of the line, largely due to the new University of Minnesota stadium presently under construction on the LPA alignment.

3. Potential Additional Station at Hamline, Victoria or Western: The impact of adding a station to the Central Corridor LRT project at Hamline, Victoria or Western avenues in the City of Saint Paul will be evaluated.

4. Capitol Area Alignment/Stations: Potential changes to the alignment and location of stations within Saint Paul's Capitol Area Architectural and Planning Board area will be documented and disclosed.

5. Downtown Saint Paul alignment/station modifications: Alternative means of accessing Saint Paul's Union Depot, including potential impacts to LRT station location and alignment will be documented and disclosed.

6. Traction power substations: The AA/DEIS discussed the need for traction power substations as part of LRT operations, but did not identify the number or potential location(s) of substations. The SDEIS will document and disclose this information.

7. 3-car train requirement: The impacts of potential 3-car train operations on the Central Corridor will be evaluated.

8. Vehicle maintenance facility: The need for and impacts of constructing a storage and maintenance facility to serve the operational needs of the Central Corridor LRT project will be documented and disclosed.

9. Washington Avenue Bridge: The need for and impacts of modifications and/or improvements required to the Washington Avenue Bridge for LRT purposes will be documented and disclosed.

10. Other key project elements determined through the on-going decision-making process to have potential significant impacts to human and natural environments.

The SDEIS Process and the Role of Participating Agencies and the Public: The SDEIS will assist the Metropolitan Council, FTA, resource agencies, key project partners and the general public in understanding and resolving key project elements within the context of NEPA. The purpose of the SDEIS process is to explore in a public setting potentially significant effects of implementing proposed changes to the LPA on the physical, human, and natural environment. Areas of investigation include, but are not limited to, land use, historic and archaeological resources, visual and aesthetic qualities, traffic and parking, modification to existing bridges, noise and vibration, environmental justice, regulatory floodway/floodplain encroachments, coordination with transportation and economic development projects, and construction impacts. Other issues to be addressed in the SDEIS include: Natural areas, ecosystems, rare, threatened and endangered species, water resources, air/surface water and groundwater quality, energy, potentially contaminated sites, displacements and relocations, Section 4(f) of the Department of Transportation Act and Section 6(f) of the Land and Water Conservation Fund Act and secondary and cumulative effects. The SDEIS is not intended to repeat all the analyses contained in the project's AA/DEIS. Most analyses would be limited to the study area corresponding to key project elements currently identified and outlined above, as well as other project elements that have yet to be identified and may arise during the current decision-making process. Potential impacts will be evaluated for both the short-term construction period and the long-term effects of operations. Measures to avoid, minimize, or mitigate any significant adverse impacts will be identified.

Notices regarding the intent to prepare the SDEIS and soliciting input will be sent to the appropriate Federal, State, and local agencies that have expressed or are known to have an interest or legal role in this proposed action. A comprehensive public involvement program has been developed to engage private organizations, citizens, and interest groups in the process. The program includes an active Community Advisory Committee (CAC), a Business Advisory Council (BAC), a Central Corridor Management Committee (CCMC) and a Project Advisory Committee (PAC). A Central Corridor project Web site has been created and can be found at: http://www.metrocouncil.org/transportation/ccorridor/centralcorridor.htm. Community outreach coordinators are available to work with residents, businesses and interested individuals along the entirety of the corridor at: http://www.metrocouncil.org/transportation/ccorridor/CCstaff.htm. Notices of public meetings have been and will continue to be given through a variety of media providing the time and place of the meeting along with other relevant information. When complete, the SDEIS will be distributed and available for public and agency review and comment prior to any public hearings. Following publication, review, and approval of the SDEIS, a Final Environmental Impact Statement (FEIS) will be prepared and circulated. The FEIS will identify a final preferred alternative and any necessary mitigation commitments.

In accordance with 23 CFR 771.105 (a) and 771.133, the Metropolitan Council and FTA will comply with all Federal environmental laws, regulations, and executive orders applicable to the proposed project during the environmental review process to the maximum extent practicable. These requirements include, but are not limited to, the regulations of the Council on Environmental Quality and FTA regulations implementing NEPA (40 CFR Parts 1500-1508, and 23 CFR Part 771), the project-level air quality conformity regulation of the U.S. Environmental Protection Agency (EPA) (40 CFR part 93), the Section 404(b)(1) guidelines of EPA (40 CFR Part 230), the regulation implementing Section 106 of the National Historic Preservation Act (36 CFR Part 800), the regulation implementing Section 7 of the Endangered Species Act (50 CFR Part 402), Section 4(f) of the DOT Act (23 CFR Section 771.135), and Executive Orders 12898 on Environmental Justice, 11988 on Floodplain Management, and 11990 on Wetlands.

Comments and questions concerning the proposed action should be directed to Ms. Kathryn L. O'Brien, AICP, Project Manager, Central Corridor Project Office, 540 Fairview Ave. North, Suite 200S, Saint Paul, MN 55104, Telephone: 651-602-1927; E-mail: kathryn.obrien@metc.state.mn.us

Dated: February 13, 2008.
Marisol Simon,
Regional Administrator, FTA Region V.

[FR Doc. E8-3525 Filed 2-22-08; 8:45 am]

BILLING CODE 4910-57-P